UNITED STATES ELECTION ASSISTANCE COMMISSION

Notice of Request for Public Comment on Proposed Strategic Plan

AGENCY: United States Election Assistance Commission.

ACTION: Notice: Request for Public Comment.

SUMMARY: The EAC seeks public comment on a “U.S. Election Assistance Commission Draft Strategic Plan Fiscal Years: 2009 Through 2014.” The EAC developed a strategic plan that lays out an approach to create a receptive and productive agency fully capable of the unique leadership role it has been given as a national clearinghouse, a manager of Federal financial assistance, a certifier of voting systems, and a resource for election officials throughout the country regarding the administration of Federal elections. EAC issues this notice according to a policy adopted on September 18, 2008 that requires EAC to provide notice and an opportunity for public comment on, among other things, advisories being considered for adoption by the U.S. Election Assistance Commission.

DATES: Comments must be received by 5 p.m. EST on January 20, 2009.

ADDRESSES: Comments may be submitted: Via e-mail at havainfo@eac.gov, via mail addressed to the U.S. Election Assistance Commission, 1225 New York Ave, NW., Suite 1100, Washington, DC 20005, or by fax at 202/566-3127. Commenters are encouraged to submit comments electronically and include “Strategic Plan” in the subject line, to ensure timely receipt and consideration.

Person To Contact for Information: Bryan Whitener, Telephone: (202) 566-3100.

SUPPLEMENTARY INFORMATION: The following is the complete text of the proposed Strategic Plan the EAC is seeking public comment on. The proposed strategic plan may also be viewed on the EAC Web site at http://www.eac.gov.

U.S. Election Assistance Commission Draft Strategic Plan
[Fiscal Years: 2009 Through 2014]
Table of contents | Page No.
Background | 1
Funding State Improvements to Elections | 1
Standards for Voting Systems | 1
Election Assistance Commission | 2
Guiding Principles | 3
The Planning Process | 4
VISION AND MISSION | 5
GOALS AND OBJECTIVES | 6
GOAL 1—Communicate | 6
GOAL 2—Fund and Oversee | 9
GOAL 3—Study, Guide, and Assist | 12
GOAL 4—Test and Certify | 16
GOAL 5—Manage | 19
EXTERNAL FACTORS THAT IMPACT ACCOMPLISHMENT OF THE GOALS AND OBJECTIVES | 21
APPENDICES | 22
1. Organization Chart | 22
2. Stakeholders | 23
3. Summary of Goals, Objectives, & Measures | 24

Background

In October 2002, Congress, with the leadership and overwhelming bipartisan support of the members of the U.S. House Committee on House Administration, passed the Help America Vote Act (HAVA). HAVA represents an unprecedented effort by Congress to enhance the administration of Federal elections through funding, guidance and policies.

HAVA was not contemplated as a short-term or partial solution to the issues and problems with the administration of Federal elections that came to the forefront during the 2000 elections. The law recognized the need to invest in our election infrastructure and set out a comprehensive program of funding, guidance, and ongoing research that spans the course of many years.

Funding State Improvements to Elections

The Congress initially appropriated approximately $3 billion for payments to states during fiscal years 2003 and 2004. These funds were authorized under three separate sections of HAVA. Section 101 funds may be used to improve the administration of elections for Federal office. Section 102 funds may be used to replace punch-card and lever-action voting systems. Section 251 funds may be used to (1) improve voting systems, (2) establish and implement statewide voter registration databases, (3) implement provisional voting, (4) provide information to the voting public in the polling place, and (5) otherwise improve the administration of elections for Federal office. Congress appropriated an additional $115 million of Section 251 funds in fiscal year 2008. Generally, the funds are available to states until expended.

Standards for Voting Systems

A major provision of HAVA established minimum requirements for voting systems used in Federal elections. Each voting system must:

• Permit the voter to verify the selections made prior to casting the ballot;

• Permit the voter to change a selection prior to casting the ballot;

• Notify the voter when an overvote (making more than the permissible number of selections in a single contest) occurs;

• Notify the voter of the ramifications of an overvote;

• Produce a permanent paper record that can be used in a recount or audit of an election;

• Provide accessibility to disabled voters;

• Provide foreign language accessibility in jurisdictions covered by Section 203 of the Voting Rights Act; and

• Meet the error rate standard established in the 2002 Voting System Standards.

Election Assistance Commission

To foster those programs and to promote and enhance voting for United States citizens, HAVA established the Election Assistance Commission (EAC). EAC is an independent bipartisan commission. Four full-time commissioners, appointed by the President and confirmed by the U.S. Senate, guide the EAC. Through the agency, the Federal government has assumed a role in the administration of Federal elections. Specifically, EAC is statutorily required to:

• Create a clearinghouse of information for election officials and the public.

• Distribute and monitor HAVA funds to states for election administration improvements.

• Conduct periodic studies of election administration issues.

• Establish best practices and guidelines on election administration for state and local election officials.

• Issue, and periodically review and modify, as necessary, voluntary voting system guidelines.

• Accredit voting system test labs and test and certify voting equipment.

• Develop requirements for voter registration form design for states.

• Provide Congress with a bi-annual report to assess the impact of the National Voter Registration Act (NVRA).

HAVA also set up a Standards Board and the Board of Advisors to counsel EAC. In addition, the law established a Technical Guidelines Development Committee (TGDC) to assist EAC in the preparation of the voluntary voting system guidelines.

EAC has 39 full-time employees and four part-time employees, including the four commissioners and their four special assistants. EAC is located in Washington, D.C., is managed by an Executive Director, and is organized (Appendix 1) to provide responsive service to its stakeholders (Attachment 2). Its budget for internal operations in fiscal year 2008 was $13,280,000.

Guiding Principles

EAC is committed to:

• Bipartisan collaboration to serve the best interests of the American voters.

• Transparency in its work.

• Professionalism, excellence, and adherence to the highest level of performance standards for EAC staff and contractors.

• Accountability and integrity in the management and conduct of all EAC activities and programs.

• Careful stewardship of taxpayer dollars and overall fiscal responsibility.

• Timely performance of its duties.

• Performance and public service without regard to race, sex, religion, national origin, age, special needs, sexual orientation, gender identification, or political affiliation in everything it does.

• Thorough and efficient distribution of appropriate election administration information it gathers.

The Planning Process

To meet the challenge of supporting the states and local governments in implementing HAVA reforms, EAC developed a strategic plan that provides the framework for how it will use its resources effectively. The plan lays out an approach to create a receptive and productive agency fully capable of the unique leadership role it has been given as a national clearinghouse, a manager of Federal financial assistance, a certifier of voting systems, and a resource for election officials throughout the country regarding the administration of Federal elections.

The plan is a valuable opportunity for EAC to work together as a team to consider a collective strategic outlook. With the help of the Commissioners, a vision and mission were reconfirmed. EAC's senior management team then took on the task of identifying the critical issues facing EAC in the coming years and determined how best to meet them. The plan focuses on these issues and is intended to be the foundation from which to address issues that arise during fiscal years 2009 through 2014. EAC is committed to thinking both critically about its niche and strategically at how to make improvements in crucial areas, and this plan embraces the next steps to further that effort. The senior management team identified five strategic goals which are described in detail in this document and summarized in Appendix 3.

Vision and Mission

Vision

Lead election reform that reaffirms the right to vote and to have all eligible votes counted accurately.

Mission

Assist the effective administration of Federal elections.

Goals and Objectives

Goal 1: Communicate

Communicate timely and accurate information on the effective administration of elections for Federal office and on the operations and services offered EAC.

Increased interest in elections, new Federal funding, the rapid pace of change in election administration, and Congressional direction has led EAC to operate a national clearinghouse of election information. EAC obtains election information through in-house research and chartered studies and from other credible sources. EAC presents this information to the election community, the public, the media, and EAC employees principally through its Web site. Also, EAC must be responsive to valid inquiries about its programs and operations.

Outcome

The Congress, Federal agencies, state and local election officials, and the public receive reliable, accurate, and non-partisan information about administering, conducting, and participating in Federal elections and how, where, and when Americans vote.

Objective 1: Operate the EAC clearinghouse effectively.

Means and strategies for accomplishing objective:

(a) Set EAC policy for a Web-based clearinghouse that will (i) establish the physical description of the clearinghouse and (ii) describe the contents to be presented to the public.

(b) Launch a public information initiative about the contents and uses of the EAC Clearinghouse.

(c) Maintain current and relevant information on the EAC Web site.

(d) Conduct regular information audits of all EAC divisions to update the Clearinghouse and Web site with EAC input.

Performance Measure

• Issue clearinghouse policy within 6 months.

• Post applicable information on the Web-based clearinghouse within 24 business hours of receipt.

• Distribute at least one e-mail update per month to stakeholders about the Web-based clearinghouse.

Objective 2: Respond to outside requests about the EAC timely and accurately.

Means and strategies for accomplishing objective:

(a) Establish and implement policies and procedures for tracking requests, gathering information from EAC, responding to requests, verifying and documenting responses, and updating information for stakeholders.

(b) Coordinate Commissioner and staff briefings for Members of Congress and Congressional staffers.

(c) Maintain and make available to EAC staff an electronic Freedom of Information Act (FOIA) reading room and a database of media and Congressional inquiries and responses.

(d) Maintain a physical FOIA reading room.

(e) Provide (FOIA) training to EAC staff to improve response rates.

Performance Measure

• Issue policies and procedures concerning request process within 6 months.

• Distribute media and Congressional inquiry and response log to the EAC staff on a daily basis.

• Respond to FOIA requests in accordance with requirements.

• Respond to 75 percent of non-FOIA requests within 72 hours.

Objective 3: Convey the results of EAC operations and accomplishments.

Means and strategies for accomplishing objective:

(a) Identify technologies and other communication opportunities that will ensure rapid delivery of information to a wide variety of stakeholders.

(b) Actively promote the EAC electronic newsletter to expand the stakeholder database.

(c) Inform Members of Congress and Congressional staffers about EAC initiatives and programs in general and in their districts.

(d) Edit EAC materials and deliverables to ensure their accuracy and consistency.

(e) Produce speeches and talking points for commissioners and EAC staff that accurately capture EAC activities and output.

(f) Create an atmosphere of creativity and customer service.

Performance Measure

• Provide regular updates about EAC activities and election administration issues to EAC employees.

• Produce an annual report that accurately captures EAC activities during the respective time period.

• Produce an annual FOIA report to chronicle requests and responses.

• Issue quarterly press releases summarizing EAC accomplishments.

• Provide regular briefings regarding EAC activities to Congressional staffers.

• Produce the annual report to the Congress by January 1 of each year for the preceding year ending September 30.

• Issue at least 12 EAC newsletters per year.

Program Evaluation

To evaluate the program:

• Establish feedback mechanism to gain public input on effectiveness and relevance of Web-based clearinghouse.

• Conduct monthly information audits on Web-based clearing house to ensure content is accurate and updated.

Goal 2: Fund and Oversee

Deliver and manage Federal funds effectively.

For the first time, the Federal government has funded improvements to the voting process. EAC is responsible for the distribution and oversight of approximately $3 billion in payments to states and for other grant programs to improve Federal elections and gather election data. Most of the funding to States was used for purchasing new voting equipment that meets the standards in HAVA; establishing a computerized statewide voter registration list; educating voters about voting procedures, rights, and technology; training election officials, poll workers, and election volunteers; improving the accessibility and quantity of polling places; and otherwise improving the administration of elections for Federal office. EAC is responsible for the administration of these funds.

Outcome

States and other recipients promptly and accurately receive Federal funds administered by EAC and use the funds appropriately to improve the administration of elections for Federal office.

Objective 1: Accurately and timely disburse Federal financial assistance administered by EAC.

Means and strategies for accomplishing objective:

(a) Develop program manual, including rules of general applicability, for each Federal financial assistance program administered by the EAC.

(b) Thoroughly review all grant applications to select appropriate recipients.

(c) Thoroughly review requests for payments/state plans under all programs to help assure recipients use funds for appropriate purposes.

(d) Timely publish state plans and amendments to state plans.

(e) Timely disburse funds on the basis of requests for reimbursement, certifications, and/or amendments to state plans.

(f) Recoup and redistribute unspent Section 102 funds.

Performance Measure

• Publish program manual by January 2009.

• Award grants within established timeframes.

• Submit state plans for publication in the Federal Register within 30 days of receipt of the plan.

• Submit payment requests to GSA with 10 days of receipt of acceptable requests/certifications.

• Recoup and redistribute unspent Section 102 funds by May 2009

Objective 2: Effectively monitor Federal financial assistance administered by the EAC.

Means and strategies for accomplishing objective:

(a) Include in Program Manual reporting requirements and monitoring procedures.

(b) Timely review all financial and narrative reports submitted.

(c) Follow up on anomalies in reports or on non-reporting entities.

(d) Prepare a timely annual report to the Congress on State use of HAVA Section 251 funds (requirements payments).

(e) Review audit reports to identify internal control weaknesses and questionable uses of Federal funds administered by the EAC.

(f) Conduct sight visits of recipients for whom EAC has found significant problems in financial and/or narrative reports and/or in audit reports.

(g) Timely negotiate indirect cost rates with state election agencies..

Performance Measures

• Send follow up letters to recipients regarding reporting anomalies or failure to file within 30 days of knowledge of such conditions.

• Resolve 100 percent of audit findings within established timeframes.

• Conduct site visits to at least three high priority grantees each year.

• Negotiate indirect cost rates within 30 days of receipt of acceptable indirect cost proposals.

• Issue the annual report to Congress on the expenditure of HAVA funds by July 15 of each year.

Objective 3: Provide technical assistance and guidance on the management of Federal financial assistance administered by EAC to reduce the risk of inappropriate use of funds and accounting errors.

Means and strategies for accomplishing objective:

(a) Include in Program Manual guidance/references on use of funds, allowable costs, and managing funds.

(b) Offer workshops and training sessions on management, use and reporting of Federal financial assistance administered by EAC.

Performance Measures

• Submit to the Commissioners all recommended policy and guidance concerning the administration of Federal financial assistance administered by the EAC within established timeframes.

• Offer at least one workshop per year.

• Respond to all inquires by recipients about the use and administration of funds in accordance with EAC requirements.

Program Evaluation

Assess the results of (1) audits (EAC Office of Inspector General and State) of recipient expenditure of Federal financial assistance administered by EAC, (2) EAC monitoring visits, and (3) EAC reviews of recipient annual financial reports. Implement additional controls over EAC administration of Federal financial assistance, as appropriate, on the basis of the assessments.

Goal 3: Study, Guide, and Assist

Identify and develop information on areas of pressing concern regarding the administration of elections for Federal office and issue recommended improvements, guidance, translations, and best practices as required by HAVA, and carry out responsibilities under the National Voter Registration Act (NVRA).

HAVA mandates that the EAC conduct research on current election administration issues with the aim of promoting methods of voting and administering elections which will be the most “convenient, accessible, and easy to use;” “will yield the most accurate, secure, and expeditious system for voting and tabulating election results;” “will be nondiscriminatory;” and “will be efficient and cost-effective.” HAVA also requires that EAC produce guidelines and best practices for state use in implementing HAVA. HAVA also transfers from the Federal Election Commission to the EAC the responsibility for updating and maintaining the national mail voter registration application and for reporting on the impact of the NVRA on elections for Federal office.

Outcome

As a result of this goal (1) the election community and other key stakeholders improve the administration of elections for Federal office on the bases of pertinent, impartial, timely, and high-quality information, recommendations, guides and other tools on election and voting issues and (2) eligible citizens use the mail voter registration application to register to vote, register with a political party, or report a change of name, address, or other information.

Objective 1: Complete research on relevant issues that improve the administration of elections for Federal office and expeditiously report on critical administration subjects and election data.

Means and strategies for accomplishing objective:

(a) Analyze unfinished research mandated by HAVA, and develop and prioritize an inventory of ideas for potential new projects internally and on the basis of input from stakeholders.

(b) Establish, based on the inventory, annual research plans for completing research projects by EAC and by contractors in order of priority. Present plan to Board of Advisors and Standards Board for information and comments only. Obtain Commissioners approval for the plan and inform the Congress of any mandated research that is no longer useful.

(c) Monitor research projects; tracking progress, checking the accuracy of results, and preparing reports.

(d) Prepare, on the basis of data collected, recommendations for improvements for the election community.

Performance Measures

• Complete inventory of potential projects by July 2009.

• Start 100 percent of annual planned and funded projects.

• Meet the milestones for the completion of contracted research projects in accordance with contract schedules and deliverables.

• Disseminate all completed research project reports to stakeholders.

• Establish, in fiscal year 2009, a baseline for measuring stakeholder use of EAC research products to improve the administration of elections for Federal office. In subsequent years, increase the percentage of stakeholder use of EAC research products.

Objective 2: Identify and collect required and useful data on election administration practices and on voting methods and demographics and make recommendations for improving the quality of practices, methods, and data.

Means and strategies for accomplishing objective:

(a) Identify data required to be collected by law and data needed by the Congress, election officials, and other stakeholders.

(b) Interact with state and local election data collection agencies and election associations to exchange information on data collection practices and identify ways to ensure data quality.

(c) Amend EAC's Election Day survey to include the collection of data on new election administration topics and on changes in required and desirable data elements.

(d) Recommend improvements to the data collection process to the Congress and issue reports presenting data required by the Uniformed and Overseas Citizens Absentee Voting Act and EAC's Election Day Survey.

Performance Measure

• Establish a baseline in fiscal year 2009 on the accuracy and completeness of data reported by states in response to EAC surveys. Increase the accuracy and completeness of reported data in each of the succeeding years.

• Include recommendations to improve election administration and data to the Congress in the annual report on the Election Day survey.

• Issue required reports to the Congress by the dates required by law.

Objective 3: Issue guides, translations and other tools that are timely and useful.

Means and strategies for accomplishing objective:

(a) Provide guidance to states concerning the proper implementation of the HAVA Title III requirements.

(b) Develop and administer the EAC Language Accessibility Program to assist election officials in meeting the needs of limited English proficiency voters.

(c) Develop guidelines in Native American Languages.

(d) Develop and maintain A Voter's Guide to Federal Elections in Spanish, Chinese, Japanese, Korean, Vietnamese, and Tagalog.

(e) Create interactive versions of the various Glossaries of Key Election Terminology on the EAC Web site.

(f) Coordinate with the Department of Justice Voting Section to provide EAC language resources to jurisdictions required to meet the language minority requirements in Sections 203 and 404 of the Voting Rights Act.

(g) Develop election management guidelines that can be easily adapted to suit an election jurisdiction's needs.

Performance Measures

• Complete guidance on HAVA Title III requirements by October 2010.

• Complete the Voters Guide to Federal Elections in Spanish, Chinese, Japanese, Korean, Vietnamese, and Tagalog by September 2009.

• Complete guidance for Native Americans by October 2010.

• Complete interactive glossaries and management guidelines by October 2011.

Objective 4: Update and maintain a national mail voter registration application and report to the Congress as required by NVRA

Means and strategies for accomplishing objective:

(a) Implement procedures to improve and maintain the national mail voter registration application and to govern state requests for changes to the application.

(b) Provide guidance to states concerning the proper implementation of the NVRA.

(c) Translate the form into Spanish, Chinese, Japanese, Korean, Vietnamese, and Tagalog.

Performance Measures

• Publish regulations governing the administration of the application by December 2009.

• Process all accepted requests to change the mail voter registration form within prescribed timeframes.

• Issue the bi-annual report on the impact of NVRA by June 30 of each odd-numbered year.

Program Evaluation

Develop an assessment tool to monitor election community acceptance of EAC recommendations and guides.

Goal 4: Test and Certify

Build public confidence in elections by testing and certifying voting systems to improve system security, operation, and accessibility.

Before the passage of HAVA, the Federal government was not involved in the testing of voting systems used in Federal elections. EAC's first step in instituting a Testing and Certification Program was to work with its advisory committees and the National Institute of Standards and Technology (NIST) to develop voluntary voting system guidelines against which voting systems will be evaluated. EAC completed the first iteration of the VVSG in 2005, and will regularly update the VVSG. In addition, EAC works with NIST to accredit laboratories to test voting equipment. Based on the tests of equipment and software conducted by laboratories, EAC will certify, decertify, or recertify voting systems, as appropriate.

Outcome

Voting equipment operates more reliably and securely and is more accessible to the disabled. States use the EAC testing and certification program to ensure voting systems meet standards.

Objective 1: Develop and update the voluntary voting system guidelines.

Means and strategies for accomplishing objective:

(a) Develop updated voluntary voting system guidelines in plain English that adequately address accuracy and reliability of voting systems and that are cost effective.

(b) Develop and maintain testable, objective, and repeatable voluntary voting system test suites and (or) test methods.

(c) Submit an updated draft of VVSG, prepared by the TGDC, to the Federal Register for public comment and hold public meetings with stakeholders on the proposed guidelines.

(d) Consider comments on the draft TGDC version of the VVSG and prepare an EAC draft VVSG. Publish the EAC draft in the Federal Register for public comment.

(e) Prepare, after consideration of comments, a final version of guidelines and present them at a public meeting for a vote of the Commissioners.

Performance Measure

• Produce updates to the VVSG no later than 2009 and 2012.

Objective 2: Provide for the accreditation and revocation of accreditation of independent, non-federal laboratories qualified to test voting systems to Federal standards.

Means and strategies for accomplishing objective:

(a) Develop, implement, and maintain policies and procedures for the accreditation and revocation of accreditation of voting system test laboratories (VSTLs).

(b) Collaborate with NIST's National Voluntary Laboratory Accreditation Program (NVLAP) to accredit laboratories and ensure compliance with accreditation requirements.

(c) Implement a monitoring program to ensure the integrity of laboratories which test voting systems for Federal certification.

Performance Measure

• Complete accreditation reviews for all laboratories recommended to EAC by NIST and for all emergency actions within 90 days.

• Test and document the results of the review of compliance with procedures by at least 100 percent of accredited laboratories every 2 years.

Objective 3: Administer the testing, certification, decertification, and recertification of voting system hardware and software by accredited laboratories.

Means and strategies for accomplishing objective:

(a) Develop, implement, and maintain policies and procedures for the testing, certification, decertification, and recertification of voting system hardware and software by accredited VSTLs.

(b) Implement the most recent voluntary voting system guidelines into the EAC's testing and certification program and all of its components.

(c) Monitor, in accordance with Chapter 8 of the Voting System Testing and Certification Program Manual, EAC-certified voting systems to ensure that the systems continue to meet the requirements of the Federal standards to which they were certified.

(d) Conduct field reviews in state and local jurisdictions of EAC certified voting systems to ensure the systems fielded (i) match the system certified by the EAC and (ii) meet the requirements of the Federal standards to which they were certified.

Performance Measure

• Test 100 percent of systems qualifying for testing.

• Conduct at least one review of a manufacturing facility of a registered manufacturer a least once every 4 years.

• Conduct field reviews for at least 50 percent of jurisdictions that volunteer for reviews. (Measures may be modified after EAC determines average number of volunteers.)

• Respond to requests for interpretations of voting system standards with 45 days. (Measures may be modified after EAC determines average number of requests.)

Program Evaluation

Assess comments to Federal Register publications and results of EAC oversight reviews of laboratory testing and election system compliance with standards.

Goal 5: Manage

Achieve organizational and management excellence.

HAVA established the EAC to help implement mandated improvements to Federal elections. To that end, EAC will employ a variety of plans, resources, skills, processes, and technologies to ensure effective and efficient agency management.

Outcome

EAC Commissioners and staff of the testing and certification, payments and grants, election administration improvement, research, administration, and legal programs proficiently carry out EAC's strategic objectives.

Objective—Implement a high performance organization

Means and strategies for accomplishing goal:

(a) Foster a leadership environment that inspires, motivates and guides employees toward the strategic goals; coaches, mentors, and challenges staff; provides needed training and sharing of knowledge; and, models high standards of honesty, integrity, trust, and respect for all individuals.

(b) Establish an organization structure, management systems, and decision-making processes that improve coordination and cooperation across the EAC and that support the efficient accomplishment of goals and priorities.

(c) Clarify roles and responsibilities of commissioners and staff.

(d) Attract and maintain a high-performing workforce that is diverse and that includes those with disabilities through outreach, competitive compensation, meaningful training, pleasant work space, flexible work schedules, telework, and state-of-the-art equipment.

(e) Obtain sufficient funds, plan activities, and budget resources to accomplish the goals and objectives of EAC.

(f) Provide effective financial management to programs.

(g) Provide effective legal support to program operations.

(h) Monitor EAC division progress in meeting goals and objectives.

Performance Measure

• Meet annual performance measures.

• Obtain a clean audit opinion on agency financial statements within 2 years of the initial statement preparation.

• Institute an internal integrated budget and financial management system within 6 months.

• Implement 90 percent of OIG audit recommendations within agreed upon timeframes.

Program Evaluation

Implement an effective internal control assessment process that meets the requirements of Office of Management and Budget Circular A-123, Management's Responsibility for Internal Controls. Promptly implement agreed upon recommendations contained in EAC's annual audit of its Performance and Accountability Report.

External Factors That Impact Accomplishment of the Goals and Objectives

EAC has an opportunity to remain a leader in the election community and have positive name recognition outside of the Federal government. However, the agency's ability to accomplish such an end is dependent upon a number of external factors that are not all within the agency's control.

Acceptance by the Election Community

HAVA strictly limits EAC's regulatory authority to that held by the Federal Election Commission (FEC) over the NVRA. As such, a significant number of EAC's research and guidance is voluntary. It is critical to have state and local election officials adopt and apply these voluntary principles if EAC's efforts are to succeed.

Budget

Adequate funding for the maintenance of staff and support functions is essential for attainment of EAC goals and strategic objectives.

Legislative Changes

Statutory changes to either the agency's enabling legislation or to other statutes that directly impact the agency could affect the EAC's ability to meet its goals and strategic objectives.

Technology

Developments in technology that are rapidly changing our world could provide both new opportunities and new risks for EAC.

BILLING CODE 6820-KF-P

Appendix 2 Stakeholders

Government Entities With Oversight & Decision-Making Authority Regarding EAC

White House Staff

Members of Congress

Office of Management & Budget

Groups Directly Affected by EAC Activities That Also Impact EAC Decision-Making

Chief Election Authorities in Each State

Local Election Officials

EAC Standards Board

EAC Board of Advisors

EAC Technical Guidelines Development Committee

Other Government Entities With HAVA Implementation Responsibilities or Interest in HAVA

Federal Agencies

Governors (Mayor in Washington, DC)

State Legislatures (City Council in Washington, DC)

Non-Government Groups Affected by HAVA Implementation

Professional Groups for Election Officials

Professional Groups Representing State & Local Government

Election Equipment & Services Vendors

National Political Parties

Other Groups Interested in EAC Activities & HAVA Implementation

U.S. Citizens here and abroad

Voter Advocacy Groups

Universities and Academics

Think Tanks

International Organizations/Interests

State and Local Election Officials

Thomas R. Wilkey,
Executive Director, U.S. Election Assistance Commission.

[FR Doc. E8-30195 Filed 12-18-08; 8:45 am]

BILLING CODE 6820-KF-C